DEPARTMENT OF ENERGY

Implementing the National Broadband Plan by Studying the Communications Requirements of Electric Utilities To Inform Federal Smart Grid Policy

AGENCY: Department of Energy.

ACTION: Notice of public meeting.

SUMMARY: On May 11, 2010, the Department of Energy (DOE) published a Request for Information seeking comments and information from interested parties to assist DOE in understanding the communications requirements of utilities. DOE will hold a public meeting as part of this Request for Information.

DATES: The Department will hold a public meeting on June 17, 2010, from 10 a.m. to 12 p.m. in Washington, DC. Any person wishing to speak at the public meeting should submit a request to do so before 4 p.m., June 15, 2010. If there are time constraints, those who have submitted a request will be given preference. Written comments are welcome, especially following the public meeting, and should be submitted by July 12, 2010 and reply comments by July 26, 2010.

ADDRESSES: The public meeting will be held at the U.S. Department of Energy, Forrestal Building, Room 8e069, 1000 Independence Avenue, SW., Washington, DC 20585-0121. Please note that foreign nationals participating in the public meeting are subject to advance security screening procedures. If a foreign national wishes to participate in the public meeting, please inform DOE of this fact as soon as possible by contacting Katharine Dickerson at 202-586-5281 so that the necessary procedures can be completed.

Interested persons may submit comments, identified by “NBP RFI: Communications Requirements,” by any of the following methods:

Federal eRulemaking Portal: http://www.regulations.gov. Follow the instructions for submitting comments.

E-mail: broadband@hq.doe.gov. Include “NBP RFI: Communications Requirements” in the subject line of the message.

Mail: U.S. Department of Energy, Office of the General Counsel, 1000 Independence Avenue, SW., Room 6A245, Washington, DC 20585.

FOR FURTHER INFORMATION CONTACT: Maureen C. McLaughlin, Senior Legal Advisor to the General Counsel (202) 586-5281; broadband@hq.doe.gov.

For Media Inquiries you may contact Jen Stutsman at 202-586-4940.

SUPPLEMENTARY INFORMATION: On May 11, 2010, the Department of Energy (DOE) published a Request for Information seeking comments and information from interested parties to assist DOE in understanding the communications requirements of utilities, including, but not limited to, the requirements of the Smart Grid (75 FR 26206). DOE also sought to collect information about electricity infrastructure's current and projected communications requirements, as well as the types of networks and communications services that may be used for grid modernization. Specifically, DOE sought information on what types of communications capabilities that the utilities think that they will need and what type of communications capabilities that the communications carriers think that they can provide. DOE will hold a public meeting as part of this request for information.

Issued in Washington, DC on June 8, 2010.
Scott Blake Harris,
General Counsel.

[FR Doc. 2010-14259 Filed 6-11-10; 8:45 am]

BILLING CODE 6450-01-P